NATIONAL SCIENCE FOUNDATION

Business and Operations Advisory Committee

In accordance with Federal Advisory Committee Act (Pub. L. 92-463, as amended), the National Science Foundation announces the following meeting:

Name: Business and Operations Advisory Committee (9556).

Date/Time: April 26, 2001; 8:30 a.m. to 5 p.m.; April 27, 2001; 8:30 a.m. to 3 p.m.

Place: National Science Foundation, 4121 Wilson Boulevard, Arlington, VA (Stafford II Conference Center, Room 555).

Type of Meeting: Open.

Contact Person: Louise McIntire, National Science Foundation, 4201 Wilson Boulevard, Arlington, VA 22230 (703) 292-8200.

Purpose of Meeting: To provide advice concerning issues related to the oversight, integrity, development and enhancement of NSF's business operations.

Agenda:

April 26, 2001

AM: Introductions: Briefings on CIO and CFO functions

PM: Discussion: Strategic planning for business and operations

April 27, 2001

AM: Discussion: Planning for an NSF Academy; meeting with NSF Director

PM: Discussion: Risk assessment planning; wrap up

Dated: March 20, 2001.
Susanne Bolton,
Committee Management Officer.

[FR Doc. 01-7295 Filed 3-22-01; 8:45 am]

BILLING CODE 7555-01-M